DEPARTMENT OF COMMERCE

National Oceanic and Atmospheric Administration

RIN 0648-XG790

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit application contains all of the required information and warrants further consideration. This Exempted Fishing Permit would exempt seven commercial fishing vessels from limited access sea scallop regulations in support of a study on the feasibility of transplanting and monitoring scallops transplanted from one offshore area to another.

Regulations under the Magnuson-Stevens Fishery Conservation and Management Act require publication of this notification to provide interested parties the opportunity to comment on applications for proposed Exempted Fishing Permits.

DATES: Comments must be received on or before March 27, 2019.

ADDRESSES: You may submit written comments by any of the following methods:

• Email: nmfs.gar.efp@noaa.gov. Include in the subject line “DA19-005 CFF Reseeding EFP.”

• Mail: Michael Pentony, Regional Administrator, NMFS, Greater Atlantic Regional Fisheries Office, 55 Great Republic Drive, Gloucester, MA 01930. Mark the outside of the envelope “DA19-005 CFF Reseeding EFP.”

FOR FURTHER INFORMATION CONTACT: Shannah Jaburek, Fishery Management Specialist, 978-282-8456.

SUPPLEMENTARY INFORMATION: Coonamesset Farm Foundation (CFF) submitted an exempted fishing permit (EFP) application in support of a project titled “Dispersal and Growth of Recently Transplanted Sea Scallops (Placopecten magellanicus) in an Offshore Grow-Out Area.” The project would look primarily at the feasibility of transplanting/seeding scallops from one offshore area to another. The project would also demonstrate the feasibility of tracking the scallops once they have been transplanted/seeded over a nine-month period. Researchers propose that information gained from this project on scallop growth and survival could be broadly applicable to future stock dynamic studies as well as a possible mitigation technique to help deal with global climate change.

To enable this research, CFF is requesting exemptions for seven commercial fishing vessels from the Atlantic sea scallop crew size restrictions at § 648.60(c); observer program requirements at § 648.11(g); Nantucket Lightship South and North Rotational Areas at § 648.60(e) and 648.60(g); and access area program requirements at § 648.59(a)(1)-(3), (b)(2), (b)(4).

This project would be conducted in three phases. An initial trip would harvest approximately 60 scallops to conduct a health assessment to ensure that disease transmission between areas will not occur. The second phase would have 1 vessel conducting dredging operations to harvest between 100,000-500,000 scallops on a single trip from Nantucket Lightship South and transplant them in Nantucket Lightship North. This trip would also include camera surveys when the scallops are transplanted and then at 12-, 24-, and 48-hour intervals. The third phase of the project would consist of five trips to the transplant area. The first four would only consist of camera surveys of the transplant area. The fifth and final trip would consist of a camera survey of the area and harvest activities of both natural set and transplant scallops for final size composition comparisons.

All tows to harvest scallops for transplanting would be conducted with one 15-foot (4.57 m) dredge for a duration of 10 minutes using an average tow speed of 4.5 knots. All dredge gear would conform to scallop gear regulations. A subset of approximately 10,000 scallops would be tagged with a unique identifier to both the top and bottom of the shell. An additional 25 scallops would be tagged with acoustic telemetry tags to help relocate transplanted scallop piles. All scallops, both tagged and untagged, would be lowered to the ocean bottom in covered baskets. Following transplant operations, CFF would use a stationary camera array tied on to the vessel to photographically document the drift of the transplanted scallops.

No catch sampling beyond tagging scallops would occur, therefore any non-scallop catch would not be retained for longer than needed to sort catch, and no catch would be landed for sale. All catch estimates for the project are listed in the table below.

Table 1—Estimated Catch, by Species, for CFF EFP Request
Common name | Estimated weight (lb) | Estimated weight (kg)
Sea Scallop | 12,000 | 5,443
Yellowtail Flounder | 20 | 9
Winter Flounder | 20 | 9
Windowpane Flounder | 60 | 27
Monkfish | 100 | 45
Other Fish | 120 | 54
Barndoor Skates | 20 | 9
Northeast Skate Complex | 500 | 227

CFF needs these exemptions to allow them to deploy gear in areas that are currently closed to scallop fishing. Participating vessels need crew size waivers to accommodate science personnel. The project would be exempt from the sea scallop observer program requirements because activities conducted on the trip are not consistent with normal fishing operations. Researchers from CFF will accompany each trip taken under the EFP.

The New England Fishery Management Council is currently devising a management strategy for these scallops in the 2020 fishing year and there is talk of allocating them through a specifications action. NMFS is particularly interested in receiving comment on how this EFP would intersect with the Council's developing management strategy.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 6, 2019.
Karen H. Abrams,
Acting Director, Office of Sustainable Fisheries, National Marine Fisheries Service.

[FR Doc. 2019-04413 Filed 3-11-19; 8:45 am]

BILLING CODE 3510-22-P